DEPARTMENT OF COMMERCE

International Trade Administration

University of Massachusetts Notice of Decision on Application for Duty-Free Entry of Electron Microscope

This is a decision pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, N.W., Washington, D.C.

Docket Number: 99-030. Applicant: University of Massachusetts, Amherst, MA 01003-5810. Instrument: Electron Microscope, Model Tecnai 12. Manufacturer: FEU Company, The Netherlands. Intended Use: See notice at 64 FR 72649, December 28, 1999. Order Date: August 4, 1999.

Comments: None received. Decision: Approved. No instrument of equivalent scientific value to the foreign instrument, for such purposes as the instrument is intended to be used, was being manufactured in the United States at the time the instrument was ordered. Reasons: The foreign instrument is a conventional transmission electron microscope (CTEM) and is intended for research or scientific educational uses requiring a CTEM. We know of no CTEM, or any other instrument suited to these purposes, which was being manufactured in the United States at the time of order of the instrument.

Frank W. Creel,
Director, Statutory Import Programs Staff.

[FR Doc. 00-2418 Filed 2-2-00; 8:45 am]

BILLING CODE 3510-DS-P